DEPARTMENT OF TRANSPORTATION

Maritime Administration

[Docket No. MARAD-2020-0133]

Decommissioning and Disposition of the National Historic Landmark Vessel N.S. Savannah; Establishment of the Peer Review Group; and Schedule of PRG Meetings

AGENCY: Maritime Administration, Department of Transportation.

ACTION: Notice.

SUMMARY: In accordance with the National Historic Preservation Act (NHPA) and its implementing regulations, the Maritime Administration (MARAD) has developed and executed a Programmatic Agreement (PA) among the U.S. Department of Transportation, MARAD, the U.S. Nuclear Regulatory Commission (NRC), the Advisory Council on Historic Preservation (ACHP), and the Maryland State Historic Preservation Officer (SHPO) for the Decommissioning and Disposition of the Nuclear Ship Savannah (NSS). The PA executed on March 17, 2023, outlines the process for the decommissioning and disposition of the NSS. The PA is available for review on the MARAD docket located at www.regulations.gov under docket id “MARAD-2020-0133.” Stipulation II of the PA establishes a Peer Review Group (PRG) and affords the public an opportunity to participate in PRG activities, including attending meetings and reviewing draft deliverables developed as part of the PA. MARAD encourages public participation and is providing the preliminary PRG meeting schedule for 2023 and 2024 in the DATES section below.

DATES: The PRG plans to meet every two months on the third Tuesday of the month from 2:30-4:00 p.m. Eastern Time. The preliminary meeting schedule for 2023 through 2024 is as follows:

• 2023: July 18, September 19, November 21

• 2024: January 16, March 19, May 21, July 16, September 17, November 19

ADDRESSES: PRG meetings will be hosted onboard the NSS with remote access available to participate online. The NSS is located at Pier 13 Canton Marine Terminal, 4601 Newgate Avenue, Baltimore, MD 21124.

FOR FURTHER INFORMATION CONTACT: Erhard W. Koehler, (202) 680-2066 or via email at marad.history@dot.gov. Persons who use a telecommunications device for the deaf (TDD) may call the Federal Information Relay Service (FIRS) at 1-800-877-8339 to contact the above individual during business hours. The FIRS is available twenty-four hours a day, seven days a week, to leave a message or question. You will receive a reply during normal business hours. You may send mail to N.S. Savannah/Savannah Technical Staff, Pier 13 Canton Marine Terminal, 4601 Newgate Avenue, Baltimore, MD 21224, ATTN: Erhard Koehler.

SUPPLEMENTARY INFORMATION:

Background

Built in 1959, NSS is the world's first nuclear-powered merchant ship and served as a signature element of President Eisenhower's Atoms for Peace program. While in service, NSS demonstrated the peaceful use of atomic power and explored the feasibility of nuclear-powered merchant vessels. The vessel was retired from active service in 1970. It was designated as a National Historic Landmark (NHL) in 1991. NSS is currently part of MARAD's National Defense Reserve Fleet (NDRF) in retention status. Additional information regarding the vessel is available at https://www.maritime.dot.gov/nssavannah.

The NSS nuclear power plant is licensed by the NRC. MARAD is decommissioning the nuclear power plant, which will result in the termination of the NRC license. The license termination will lead to MARAD's disposition of the NSS. Because the decommissioning and disposition of the NSS is an Undertaking under Section 106 of the NHPA, MARAD initiated consultation in 2018 with the Maryland SHPO, the ACHP, the NRC, the National Park Service (NPS) and other consulting parties. Given the complexities of the Undertaking, including the yet undetermined disposition of the NSS, the parties agreed to develop a PA to guide the execution of the Undertaking.

Section 106 requires that federal agencies consider views of the public regarding their Undertakings; therefore, in 2020, MARAD established a Federal docket at https://www.regulations.gov/docket/MARAD-2020-0133 to provide public notice about the NSS Undertaking. The federal docket was also used in 2021 to solicit public comments on the future uses of the NSS. Moving forward, this same docket will be used as a resource to take in public comment, share information, and post agency actions.

On March 17, 2023, the PA among the U.S. Department of Transportation, MARAD, the NRC, the ACHP, and the Maryland SHPO for the Decommissioning and Disposition of the NSS was executed. The PA stipulates a deliberative process by which MARAD will consider the disposition of the NSS. This process requires MARAD to make an affirmative, good-faith effort to preserve the NSS. The PA also establishes the PRG in Stipulation II. The PRG is the mechanism for continuing consultation during the effective period of the PA and its members consist of the signatories and concurring parties to the PA, as well as other consulting parties, all of whom are recognized subject matter experts across various relevant fields and disciplines. The PRG members will provide individual input and guidance to MARAD, rather than building towards consensus group advice regarding the implementation of stipulations in the PA. PRG members and members of the public are invited to provide input by attending bi-monthly meetings and reviewing and commenting on deliverables developed as part of the PA.

PRG Meeting Agenda

The PRG meeting agenda will typically include (1) Welcome and introduction; (2) Previous meeting minutes review; (3) Program update; (4) Status of PA stipulations; (5) Review of any deliverables provided; (6) Comments on any deliverables (7) Other business; and (8) Date of next meeting. MARAD will publish meeting agendas in the Federal Register and on its website a minimum of one week before each meeting.

Public Participation

PRG meetings will be open to the public to attend in-person or virtually. MARAD will publish notices in advance of each meeting in the Federal Register and on MARAD's website that will provide meeting access information and other relevant information. MARAD posts will include information relative to the particular meeting, deliverables for review, and instructions on how best to provide public comment. Each meeting notice will direct members of the public who wish to participate to register their attendance through the person listed in the FOR FURTHER INFORMATION CONTACT section.

Note: The NSS is not compliant with the Americans with Disabilities Act (ADA). The ship has some capability to accommodate persons with impaired mobility, for which advance notice is required. If you require accommodations to attend PRG meetings in-person, please include this information in your RSVP.

(Authority: 49 CFR 1.81 and 1.93; 36 CFR part 800; 5 U.S.C. 552b.)

By Order of the Maritime Administrator.
T. Mitchell Hudson, Jr.,
Secretary, Maritime Administration.

[FR Doc. 2023-14403 Filed 7-6-23; 8:45 am]

BILLING CODE 4910-81-P